DEPARTMENT OF ENERGY

Federal Energy Regulatory Commission

[Docket Nos. RM01-12-000, RM02-1-000, and RM02-12-000]

Remedying Undue Discrimination Through Open Access Transmission Service and Standard Electricity Market Design Standardization of Generator Interconnection Agreements and Procedures Standardization of Small Generator Interconnection Agreements and Procedures, Advance Notice of Proposed Rulemaking; Notice of Agenda for Technical Conference

January 10, 2003.

1. As announced in a Notice of Technical Conference issued December 3, 2002, Commission staff will convene a technical conference to discuss queuing of generator interconnection requests. The conference will be held January 21, 2003 starting at 10 am and ending at 4:30 pm (a change from the previously announced starting and ending times) in the Commission Meeting Room (Room 2C) at the Federal Energy Regulatory Commission, 888 First Street, NE., Washington, DC On December 17, 2002, a Notice of Possible Discussion Items for the queuing conference was issued.

2. The purpose of the conference is to explore the significant issues participants have raised during the course of the Large Generator Notice of Proposed Rulemaking (NOPR) and Small Generator Advance Notice of Proposed Rulemaking (ANOPR) proceedings (RM02-1-000 and RM02-12-000, respectively), as well as the Commission's Standard Market Design NOPR proceeding (SMD NOPR) (RM01-12-000) concerning queuing procedures for managing generator interconnections. The technical conference will allow the development of a more complete record in these proceedings but is not intended to revisit non-queuing issues that have already been raised and explored in the Large Generator NOPR and the Small Generator ANOPR proceeding.

3. The conference is open for the public to attend; to ensure sufficient seating, attendees are asked to register in advance a http://www.ferc.gov/queuing-registration-012103.htm. FERC Commissioners may attend and participate in the discussions.

4. There will be three panels. The conference Agenda is attached to this Notice. It has tentative and confirmed lists of the panelists and the content that is to be covered during each panel. Each panelist will have 5 minutes for opening remarks. Panelists are asked to limit the hard-copy of Powerpoint presentations they may use to four pages of major points and observations, including a cover page. The use of black-and-white graphics to summarize and aggregate observations is strongly encouraged. Electronic files of these 4-page presentations should be sent to norma.mcomber@ferc.gov by January 15, 2003 to allow copying of the material because there will be no slide projection at the conference. Panelists are also encouraged to file electronic copies of their proposals and/or other presentation materials as part of the referenced proceedings. Anyone may submit comments on issues addressed in this technical conference by February 4, 2003. The filing should not exceed 20 pages, including an executive summary. This conference will be transcribed and will broadcast over the Internet. For information on getting a copy of the transcript or viewing the broadcast please refer to the previous notices, which can be found at the following link: http://www.ferc.gov/electric/gen_inter.htm. Questions related to this conference can be directed to Norma McOmber at the email listed above or (202) 502-8022.

Magalie R. Salas,
Secretary.

Attachment: Agenda of Technical Conference.

Panel 1: The Current Status of Generator Interconnection Queues—10 am-11:30 am

Confirmed List of Panelists

David Cory, PacifiCorp

Steven R. Herling, PJM

Rich Kowalski, ISO New England

Paul D. Olivier, Entergy

Phil Pettingill, California ISO

Bruce Rew, Southwest Power Pool

Discussion Topics

A. Describe generally the current status of the interconnection queue, including: the total size of the queue (MW); the location, size, queue position, date of request and expected completion date of active projects; and the number, size, queue position and date of request of any inactive projects.

B. Explain existing interconnection queuing policies and practices: Summarize the rules that govern the queue of a specific transmission provider; how a generator's queue position is determined; what milestones must be met to retain queue position; what events trigger a change in queue position or removal from the queue; how inactive projects are treated; how queue position determines responsibility for costs of studies and upgrades; how queue position determines entitlements to financial transmission rights or other property rights; how a change in the queue position of one generator affects the cost responsibility of others; is there currently information available on queue status; whether interconnection requests are currently being processed on a first-come, first-served basis, on a clustered (time or geographically) basis, or both, and why.

C. Describe any differences in the way small and large generators are treated for queuing purposes.

D. Describe any differences in the way “energy resources” and “network (or capacity) resources” are treated for queuing purposes.

E. Discuss whether generator interconnection requests and transmission service requests are included in the same queue. If not, describe the relationship between the two queues. What is the relationship between the transmission planning process and the administration of the queue(s)?

F. Do all TOs and ISOs/RTOs conduct the same interconnection studies, grid impact studies or other analyses for new project interconnection?

Break, 11:30 am-11:45 am

Panel 2: Experience with the Administration of Generator Interconnection Queues—11:45 am-1:15 pm

Confirmed List of Panelists

James Caldwell, American Wind Energy Association

J. Jolly Hayden, Calpine

John Jimison, U.S. Combined Heat and Power Association

Donald Jones, Xcel

John Simpson, Reliant

Justin Thompson, Pinnacle West

Weston L. Williams, Southern California Edison

Discussion Topics

A. Provide examples of good and bad experiences with queues, being as specific as possible regarding the facts pertaining to your company's experiences. Of particular interest are examples of problems associated with the following: undue discrimination on the part of transmission providers; inappropriate or unrealistic milestones; inequitable cost assignments; study procedures or other requirements that lead to unnecessary project delays or increased costs; and lack of flexibility in the queuing rules.

B. Identify any problems that are specific to small generators or to large generators within the queue process.

C. Describe the impact of letting the generator choose whether to interconnect as either an energy resource or a network (capacity) resource.

D. Describe any problems associated with the need to manage both interconnection requests and transmission service requests within the context of an overall transmission planning and expansion process.

E. Describe solutions to the problems identified by discussion of the items above.

Lunch, 1:15 pm-2 pm

Panel 3: Further Ideas for Improving Queue Management—2 pm-4:30 pm

Confirmed List of Panelists

John P. Buechler, New York ISO

Scott M. Helyer, Tenaska

Sam Jones, ERCOT

Pete Landrieu, Public Service Electric and Gas Company

Beth Soholt, Wind on the Wires

Lou Ann, Westerfield Idaho Public Utilities Commission

Kim Wissman, Ohio Public Utilities Commission

Discussion Topics

A. Are there particular queuing policies or practices that should change to make queue management more effective? Consider: common study/analytical techniques and tools; different or new analytical tools; procedures for ensuring that the projects of independent generators are treated comparably with those of the transmission provider; treatment of inactive projects; procedures for coordinating the upgrades needed for projects in the queue with the transmission planning process; rules for assigning cost responsibility and property rights to generators in the queue; whether there should be a link between siting requests and transmission service requests; use of milestones to maintain queue position; and a list of actions or events that can trigger a change in queue position.

B. What siting and grid operations information is needed to obtain a position in the queue, where is this information kept, and what are the rules for accessing this information? Would proposed restrictions on the Critical Energy Infrastructure Information Rulemaking proceeding (Docket Nos. RM02-4-000, PL02-1-000) affect parties' ability to site plants or interconnect cleanly?

C. Should small and large non gas-fired generators receive different treatment within a queue? If so, how should it be different?

D. Should the Commission standardize specific queue management practices or allow regional variations around a set of core principles?

E. Should queue position be treated as a property right which can be transferred?

Audience Comments

[FR Doc. 03-1033 Filed 1-15-03; 8:45 am]

BILLING CODE 6717-01-P